DEPARTMENT OF TRANSPORTATION

Federal Aviation Administration

[AC No. 91-XX]

Proposed Advisory Circular on Part 91 Pilot and Flightcrew Procedures During Taxi Operations and Part 135 Single Pilot Operations

AGENCY: Federal Aviation Administration (FAA), DOT.

ACTION: Notice of availability of proposed Advisory Circular (AC) for part 91 Pilot and Flightcrew Procedures During Taxi Operations and part 135 Single Pilot Operations, and request for comments.

SUMMARY: This notice announces the availability of and requests comments on a proposed AC that provides advisory material and recommends safe procedures, standards, and practices relating to taxi operations. This notice is necessary to give all interested persons the opportunity to present their views on the proposed AC.

DATES: Comments must be received on or before February 28, 2001.

ADDRESSES: Send all comments on the proposed AC to: Federal Aviation Administration, General Aviation and Commercial Division (Attention AFS-820), 800 Independence Avenue SW., Washington, DC 20591, or electronically to Don.Jones@faa.gov. Comments may be inspected at the above address between 9:00 a.m. and 4:00 p.m. weekdays, except Federal holidays.

FOR FURTHER INFORMATION CONTACT: Don Jones, AFS-820, at the address above, by email at Don.Jones@faa.gov, or telephone at (202) 267-3411.

SUPPLEMENTARY INFORMATION:

Comments Invited

The proposed AC is available on the FAA Web site at http://www.faa.gov/avr/afs/acs/ac-idx.htm, under AC No. 91-XX. A copy of the proposed AC may be obtained by contacting the person named above under FOR FURTHER INFORMATION CONTACT. Interested persons are invited to comment on the proposed AC by submitting such written data, views, or arguments as they may desire. Please identify AC 91-XX, part 91 Pilot and Flightcrew Procedures During Taxi Operations and Part 135 Single Pilot Operations, and submit comments, either hard copy or electronically, to the appropriate address listed above.

Issued in Washington, DC, on January 22, 2001.
L. Nicholas Lacy,
Director, Flight Standards Service.

[FR Doc. 01-2487 Filed 1-26-01; 8:45 am]

BILLING CODE 4910-13-M